DEPARTMENT OF ENERGY

Federal Energy Regulatory Commission

[Project No. 2194; Project No. 135]

North Fork Hydroelectric Project, Oak Grove Hydroelectric Project, Portland General Electric Company, Portland, Oregon; Notice of Intent To Conduct Public Scoping Meetings

December 21, 2000.

The Federal Energy Regulatory Commission (Commission or FERC) allows an applicant in the relicense of a hydroelectric project, the option of filing a Third Party Contractor prepared Environmental Impact Statement (EIS) in lieu of Exhibit E of the license application. Portland General Electric (PGE—Applicant) has requested, and the Commission has approved this alternative procedure for the relicense of the North Fork Hydroelectric Project No. 2195 and the Oak Grove Hydroelectric Project No. 135. The 121-megawatt North Fork project is located on the Clackamas River, Oregon and the 44-megawatt Oak Grove Project is located on the Oak Grove Fork of the Clackamas River. Public and agency scoping meetings will be held on February 6, 2001, for preparation of a preliminary Environmental Impact Statement.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meeting are as follows:

Agency Scoping Meeting

Date: February 6, 2001.

Time: 9:00 a.m.-noon.

Place: Two World Trade Center (Mezzanine).

Address: 121 SW Salmon Street, Portland, Oregon.

Public Scoping Meeting

Date: February 6, 2001.

Time: 7:00 p.m.-9:00 p.m.

Place: Mt. Hood National Forest, Clackamas River Ranger District Office.

Address: 595 N.W. Industrial Way, Estacada, Oregon.

The Ranger District Office is located off of Highway 224, one-half mile west of the town of Estacada. Industrial Way runs parallel to Hwy. 224 and is one block south. There is a sign for the office on Hwy. 224.

To help focus discussions, we will distribute a Scoping Document (SD1) outlining the subject areas to be addressed at the meeting to the parties on the Commission's mailing list. Copies of the SD1 also will be available at the scoping meetings.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the relative depth of analysis for issues to be addressed in the EIS; and (5) identify resource issues that are of lesser importance, and, therefore, do not require detailed analysis.

Procedures

The meetings will be recorded by a stenographer and will become part of the formal record of the Commission proceeding on the project. Individuals presenting statements at the meetings will be asked to sign in before the meeting starts and to clearly identify themselves for the record. Speaking time for attendees at the meetings will be determined before the meeting, based on the number of persons wishing to speak and the approximate amount of time available for the session. All speakers will be provided at least 5 minutes to present their views.

Individuals, organizations, and agencies with environmental expertise and concerns are encouraged to attend the meetings and to assist the staff in defining and clarifying the issues to be addressed in the EIS.

Submitting Comments

Persons choosing not to speak at the meetings, but who have views on the issues, may submit written statements for inclusion in the public record at the meeting, or mail their comments to: Mr. David Heintzman, Portland General Electric (3 WTC-BRHL), 121 SW Salmon Street, Portland, OR 97204, (503) 464-8162.

All correspondence must identify the Projects on the first page as: Clackamas River Hydroelectric Relicensing, Oak Grove Project—FERC No. 135 and North Fork Project—FERC No. 2195. All correspondence should be postmarked no later than March 7, 2001.

For further information, please contact David Heintzman, PGE, (503) 464-8162 or John Blair, FERC, (202) 219-2845.

Linwood A. Watson, Jr.,
Acting Secretary.

[FR Doc. 00-33103 Filed 12-27-00; 8:45 am]

BILLING CODE 6717-01-M